INTERNATIONAL TRADE COMMISSION

[USITC SE-02-005]

Sunshine Act Meeting

Agency Holding the Meeting: United States International Trade Commission

Time and Date: February 27, 2002 at 11:00 a.m.

Place: Room 101, 500 E Street SW., Washington, DC 20436, Telephone: (202) 205-2000.

Status: Open to the public.

Matters to be Considered: 1. Agenda for future meeting:

None.

2. Minutes

3. Ratification List

4. Inv. No. 731-TA-988 (Preliminary) (Pneumatic Directional Control Valves from Japan)—briefing and vote. (The Commission is currently scheduled to transmit its determination to the Secretary of Commerce on or before February 28, 2002; Commissioners' opinions are currently scheduled to be transmitted to the Secretary of Commerce on or before March 7, 2002.)

5. Outstanding action jackets: None.

In accordance with Commission policy, subject matter listed above, not disposed of at the scheduled meeting, may be carried over to the agenda of the following meeting.

By order of the Commission:
Issued: February 20, 2002.
Marilyn R. Abbott,
Acting Secretary.

[FR Doc. 02-4457 Filed 2-20-02; 2:58 pm]

BILLING CODE 7020-02-P